FEDERAL COMMUNICATIONS COMMISSION

47 CFR Parts 1, 73, and 74

[GEN Docket No. 12-268; FCC 21-111; FR ID 56167]

Expanding the Economic and Innovation Opportunities of Spectrum Through Incentive Auction

AGENCY: Federal Communications Commission.

ACTION: Final rule.

SUMMARY: In this document, the Commission adopts several rule updates to reflect the conclusion of the incentive auction and post-incentive auction transition period. First, the Commission adopts a revised Table of Allotments (Table) to reflect changes to full power television channel allotments contained in the 2018 Post-Transition Table of DTV Allotments to codify Commission actions taken over the past several years that modified the DTV channel allotments reflected in the 2018 Table, primarily actions related to the incentive auction and repacking process authorized by the Spectrum Act. The Order also deletes or revises Commission rules that no longer have any practical effect given the conclusion of the incentive auction and post-incentive auction transition period, or that are otherwise obsolete or irrelevant.

DATES: Effective December 22, 2021.

FOR FURTHER INFORMATION CONTACT: Kevin Harding, Media Bureau, at (202) 418-7077 or Kevin.Harding@fcc.gov.

SUPPLEMENTARY INFORMATION: This is a synopsis of the Commission's Order, in Gen Docket No. 12-268; FCC 21-111, adopted on October 22, 2021 and released on October 25, 2021. The full text of this document is available for download at https://docs.fcc.gov/public/attachments/FCC-21-111A1.pdf. To request materials in accessible formats (braille, large print, computer diskettes, or audio recordings), please send an email to FCC504@fcc.gov or call the Consumer & Government Affairs Bureau at (202) 418-0530 (VOICE), (202) 418-0432 (TTY).

Synopsis

Channel allotments for full power television stations in the United States, its territories, and possessions are listed and codified in 47 CFR part 73 of the Commission's rules, and applicants for full power television stations may only apply to construct on the channels designated in the codified Table of Allotments and only in the communities listed therein. To accommodate the analog to digital television transition, in 1997 the Commission allotted a paired DTV channel to analog television licensees and permittees. All full power stations terminated analog operations on June 12, 2009 (with minor and temporary exceptions) and thereafter broadcast solely on its allotted digital channel. In 2012, Congress passed the Spectrum Act that required the Commission to reorganize the ultra-high frequency (UHF) band using a two-sided incentive auction that reallocated broadcast television spectrum for mobile broadband services, which included a repacking process that reorganized and assigned new channels to full power and Class A broadcast TV stations that would remain on the air after the auction. In implementing the Spectrum Act, the Commission decided, after seeking comment on the issue, that it would not use a codified Table or rulemaking procedures to implement channel changes resulting from the repacking process, instead determining that the Table would be amended to codify all new full power channel assignments after completion of the repacking and channel substitution process.

As a result of the incentive auction, 145 broadcast stations accepted incentive payments to relinquish their spectrum rights and either go off the air or, in some cases, continue broadcasting through a channel sharing arrangement. In addition, as a result of the repacking process, 987 full power and Class A stations were reassigned to new channels, and twenty-four winning channel sharing bidders filed applications to change their station's community of license. After the incentive auction, the Media Bureau opened two filing windows for stations that were repacked. These windows permitted certain reassigned stations or band changing stations to seek alternate channels. A total of 49 stations applied for an alternate channel during these two windows and received a construction permit for a new channel.

With the incentive auction and 39-month post-incentive auction transition period completed in July 2019, the Media Bureau lifted a number of filing freezes, effective November 2020, that pertained to the 2018 Table. Specifically, the Media Bureau lifted freezes on:

• Petitions for rulemaking to change channels in the Table of Allotments.

• Petitions for rulemaking for new allotments.

• Petitions for rulemaking to change communities of license.

The Bureau received almost 50 petitions, primarily to substitute a UHF channel for a VHF channel, to change a station's community of license, or to allot a new channel. The majority have been acted on and the changes effective, and the effective channel or community changes are reflected in the new Table. All the petitions were subject to a Notice of Proposed Rulemaking seeking comment on the proposed rule changes and all were adopted through a Report and Order, pursuant to the Administrative Procedure Act, and published in the Federal Register.

The Post-Transition Table of Allotments. The Order adopts a Table that reflects all previously approved changes since the last table of allotments update in 2018. Specifically, the new Table reflects the following actions by the Commission, described above: (1) The incentive auction and television repacking process authorized by the Spectrum Act; (2) channel changes requested by stations assigned to new channels as part of the incentive auction repacking process; and (3) changes adopted after lifting the freeze in November 2020 on the filing of rulemaking petitions to change the 2018 Table. In the Order, the Commission found good cause to make these revisions to the Table without notice and comment. See 5 U.S.C. 553(b)(3)(B) (providing that notice and comment are not required “when the agency for good cause finds . . . that notice and public procedure thereon are impracticable, unnecessary, or contrary to the public interest”). These revisions merely correct outdated information from the 2018 Table as a result of channel reassignments and/or community of license changes that have already been approved by the Commission.

Deletion of Obsolete Rules. The Order also adopts non-substantive, technical revisions to certain rules in 47 CFR parts 1, 73, and 74 that are now outdated given the reallocation of television channels 38 through 51 for wireless broadband uses, the previous reallocation of channels 52 through 69 for wireless use at the end of the DTV transition in June 2009, and the conversion from analog to digital television technology.

Rulemaking Proceedings. The Order amends 47 CFR 1.420(a), (g), (h), and (i), which specify the procedures for amending the TV Table of Allotments, by deleting cross-references to “§ 73.606(b)” and replacing them with “§ 73.622(j),” the updated Table of Allotments adopted in the Order.

Television Broadcast Stations. The Order amends 47 CFR 73.622 to delete the obsolete Tables in § 73.622(b) and (i), which are superseded by § 73.622(j), the updated Table of Allotments adopted in the Order. The Order also amends 47 CFR 73.606 by deleting the cross-reference to “§ 73.622(i)” and adding a cross-reference to “§ 73.622(j),” and designates 47 CFR 73.622(j) as the “successor regulation” to 47 CFR 73.606. The Order also amends certain part 73 rules to remove references to channels and frequency bands that are no longer in-core television spectrum given the reallocation of channels 38 through 51 through the incentive auction repack and the previous reallocation of channels 52 through 69 at the end of the DTV transition in June 2009, and/or refer to obsolete rule § 73.606(b), § 73.622(b), or § 73.622(i) or reference analog TV stations or operations, or otherwise irrelevant information. Specifically, the Order deletes references to the 2018 Table, the obsolete rules sections, and references to channel numbers that are now out-of-core for television stations in each of the following: §§ 73.603(a); 73.613(b); 73.614(b)(5), 73.616(a); 73.622(a)(1) and (2), (b), (e)(1) and (2), (f)(1), (g), (i); 73.623 (a), and (c), and (g); 73.681; 73.687(a)(1) and (4), (e)(3) and (4), (i); 73.699; 73.1690 (a)(8) and (c)(3) and (4); 73.3572 (a)(1) and (4)(ii); 73.6006; 73.6010(a) and (c); 73.7000. The Order also deletes irrelevant information from § 73.625(a). This rule sets forth the community coverage contour signal strength that stations must provide to the entire principal community to be served, and the deleted material sets forth the signal strength of a station's noise limited contour, and thus, has no applicability to § 73.625(a). Deleting it does not alter the rule and avoids confusion. Finally, the Order deletes § 73.3700(f), which sets forth the requirements for filing service rule waiver requests immediately following the close of the incentive auction in 2017. Such waiver requests were required to be submitted no later than May 15, 2017 and all such requests have been disposed of in decisions that are now final.

Low Power TV, TV Translator, and TV Booster Stations. The Order also amends a number of Part 74 rules that apply to low power and television translator stations to remove references to channels and frequency bands that are no longer in-core television spectrum and/or reference analog TV operations which are no longer permitted, specifically, 47 CFR 74.702(a)(2) and (3), (b); 74.703 (f) and (g); 74.707; 74.735(a), (b), and (c); 74.786 (c) and (d)-(g); 74.787(c); 74.792(a); and 74.795(c)(1).

This document does not contain information collection requirements subject to the Paperwork Reduction Act of 1995, Public Law 104-13. In addition, therefore, it does not contain any proposed information collection burden “for small business concerns with fewer than 25 employees,” pursuant to the Small Business Paperwork Relief Act of 2002, Public Law 107-198, see 44 U.S.C. 3506(c)(4). Provisions of the Regulatory Flexibility Act of 1980, 5 U.S.C. 601-612, do not apply to this proceeding. The Commission has determined, and the Administrator of the Office of Information and Regulatory Affairs, Office of Management and Budget, concurs that this rule is “non-major” under the Congressional Review Act, 5 U.S.C. 804(2). The Commission will also send a copy of this Order to Congress and the Government Accountability office, pursuant to 5 U.S.C. 801(a)(1)(A).

List of Subjects

47 CFR Part 1

Administrative practice and procedures, Television.

47 CFR Part 73

Television.

47 CFR Part 74

Television.

Marlene Dortch,
Secretary, Office of the Secretary.

Final Rules

For the reasons discussed in the preamble, the Federal Communications Commission amends 47 CFR parts 1, 73, and 74 as follows:

PART 1—PRACTICE AND PROCEDURE

1. The authority citation for part 1 continues to read as follows:

Authority: 47 U.S.C. chs. 2, 5, 9, 13; 28 U.S.C. 2461 note, unless otherwise noted.

2. Section 1.420 is amended by revising paragraphs (a), (g) introductory text, (h), and (i) to read as follows:

§ 1.420 Additional procedures in proceedings for amendment of the FM or TV Tables of Allotments, or for amendment of certain FM assignments.

(a) Comments filed in proceedings for amendment of the FM Table of Allotments (§ 73.202 of this chapter) or the Television Table of Allotments (§ 73.622(j) of this chapter) which are initiated on a petition for rule making shall be served on petitioner by the person who files the comments.

* * * * *

(g) The Commission may modify the license or permit of a UHF TV station to a VHF channel in the same community in the course of the rule making proceeding to amend § 73.622(j), or it may modify the license or permit of an FM station to another class of channel through notice and comment procedures, if any of the following conditions are met:

* * * * *

(h) Where licensees (or permittees) of television broadcast stations jointly petition to amend § 73.622(j) and to exchange channels, and where one of the licensees (or permittees) operates on a commercial channel while the other operates on a reserved noncommercial educational channel within the same band, and the stations serve substantially the same market, then the Commission may amend § 73.606(b) or § 73.622(j) and modify the licenses (or permits) of the petitioners to specify operation on the appropriate channels upon a finding that such action will promote the public interest, convenience, and necessity.

(i) In the course of the rule making proceeding to amend § 73.202(b) or § 73.622(j), the Commission may modify the license or permit of an FM or television broadcast station to specify a new community of license where the amended allotment would be mutually exclusive with the licensee's or permittee's present assignment.

* * * * *

PART 73—RADIO BROADCAST SERVICES

3. The authority citation for part 73 continues to read as follows:

Authority: 47 U.S.C. 154, 155, 301, 303, 307, 309, 310, 334, 336, 339.

§ 73.603 [Amended]

4. Section 73.603 is amended in the table in paragraph (a) by removing the entries for channel numbers 38 through 69.

5. Section 73.606 is revised to read as follows:

§ 73.606 Table of allotments.

The table of allotments set forth in § 73.622(j) contains the channels designated for the listed communities in the United States, its Territories, and possessions. Channels designated with an asterisk are assigned for use by noncommercial educational broadcast stations only.

6. Section 73.613 is amended by revising paragraph (b) to read as follows:

§ 73.613 Protection of Class A TV stations.

* * * * *

(b) Due to the frequency spacing which exists between TV channels 4 and 5, between channels 6 and 7, and between channels 13 and 14, first-adjacent channel protection standards shall not be applicable to these pairs of channels. Some interference protection requirements of this section only apply to stations transmitting on the UHF TV channels 14 through 36 (see § 73.603(a)).

* * * * *

7. Section 73.614 is amended by revising paragraph (b)(5) to read as follows:

§ 73.614 Power and antenna height requirements.

* * * * *

(b) * * *

(5) Channels 14-36 in Zones I, II, and III

ERPMax = 84.57-17.08* Log10 (HAAT)

And,

27 dBk ≤ERPMax≤37 dBk

Where:

ERPMax = Maximum Effective Radiated Power measured in decibels above 1 kW (dBk).

HAAT = Height Above Average Terrain measured in meters.

The boundaries specified are to be used to determine the maximum possible combination of antenna height and ERPdBk. When specifying an ERPdBk less than that permitted by the lower boundary, any antenna HAAT can be used. Also, for values of antenna HAAT greater than 2,300 meters the maximum ERP is the lower limit specified for each equation.

* * * * *

8. Section 73.616 is amended by revising paragraph (a) to read as follows:

§ 73.616 Post-transition DTV station interference protection.

(a) A petition to add a new channel to the post-transition DTV Table of Allotments contained in § 73.622(j) of this subpart will not be accepted unless it meets: The DTV-to-DTV geographic spacing requirements of § 73.623(d) with respect to all existing DTV allotments in the post-transition DTV Table; the principle community coverage requirements of § 73.625(a); the Class A TV and digital Class A TV protection requirements in paragraph (f) of this section; the land mobile protection requirements of § 73.623(e); and the FM radio protection requirement of § 73.623(f).

* * * * *

9. Section 73.622 is amended by revising paragraphs (a) introductory text and (a)(1), removing and reserving paragraph (b), revising paragraphs (e)(1) and (2), removing and reserving paragraphs (f)(1), (g), and (i), and adding paragraph (j).

The revisions and addition read as follows:

§ 73.622 Digital television table of allotments.

(a) General. The following table of allotments contains the digital television (DTV) channel allotments designated for the listed communities in the United States, its Territories, and possessions. Requests for addition of new DTV allotments, or requests to change the channels allotted to a community must be made in a petition for rule making to amend the DTV Table of Allotments. A request to amend the DTV table to change the channel of an allotment in the DTV table will be evaluated for technical acceptability using engineering criteria set forth in § 73.623(c). A request to amend the DTV table to add a new allotment will be evaluated for technical acceptability using the geographic spacing criteria set forth in § 73.623(d). DTV allotments designated with an asterisk are assigned for use by non-commercial educational broadcast stations only. Rules governing noncommercial educational TV stations are contained in § 73.621. Where there is only one technically available channel available in a community, an entity that would be eligible to operate a noncommercial educational broadcast station may, prior to application, initiate a rulemaking proceeding requesting that an unoccupied or new channel in the community be changed or added as reserved only for noncommercial educational broadcasting upon demonstrating that the noncommercial educational proponent would provide a first or second noncommercial educational TV service to 2,000 or more people who constitute 10% of the population within the proposed allocation's noise limited contour.

(1) Petitions requesting the addition of a new allotment must specify a channel in the range of channels 2-36.

* * * * *

(e) * * *

(1) The service area of a DTV station is the geographic area within the station's noise-limited F(50,90) contour where its signal strength is predicted to exceed the noise-limited service level. The noise-limited contour is the area in which the predicted F(50,90) field strength of the station's signal, in dB above 1 microvolt per meter (dBu) as determined using the method in § 73.625(b) exceeds the following levels (these are the levels at which reception of DTV service is limited by noise):

| dBu
Channels 2-6 | 28
Channels 7-13 | 36
Channels 14-36 | 41

(2) Within this contour, service is considered available at locations where the station's signal strength, as predicted using the terrain dependent Longley-Rice point-to-point propagation model, exceeds the levels above. Guidance for evaluating coverage areas using the Longley-Rice methodology is provided in OET Bulletin No. 69. Copies of this document are available on the FCC's website. See https://www.fcc.gov/general/oet-bulletins-line.

* * * * *

(j) Table of TV Allotments.

Community | Channel No.
Alabama
Anniston | 9
Bessemer | 14
Birmingham | 7, *10, 20, 29, 30
Demopolis | *19
Dothan | 21, 36
Dozier | *10
Florence | 2, *22
Gadsden | 26
Gulf Shores | 27
Homewood | 21
Hoover | 33
Huntsville | 15, 17, 18, 19, *24
Louisville | *30
Mobile | 9, 15, 18, 20, 23, *30
Montgomery | 8, 22, *27, 28, 31
Mount Cheaha | *12
Opelika | 17
Ozark | 33
Selma | 25, 34
Troy | 19
Tuscaloosa | 6, 36
Tuskegee | 18
Alaska
Anchorage | 7, *8, 10, 12, 20, *26, 28, 33
Bethel | *3
Fairbanks | 7, *9, 18, 26
Juneau | *10, 11
Ketchikan | 13
North Pole | 20
Sitka | 7
Arizona
Douglas | 36
Flagstaff | 13, 22, 32
Green Valley | 34
Holbrook | *11
Kingman | 19
Mesa | 18
Phoenix | *8, 10, 15, 17, 20, 24, 26, 27, 29, 33
Prescott | 7
Sierra Vista | 21
Tolleson | 31
Tucson | 9, 16, 19, 23, 25, *28, *30, 32
Yuma | 11, 13
Arkansas
Arkadelphia | *13
Camden | 18
El Dorado | *10, 27
Eureka Springs | 25
Fayetteville | *9, 15
Fort Smith | 18, 21, 27
Harrison | 31
Hot Springs | 16
Jonesboro | 18, *20, 27
Little Rock | *7, 12, 22, 28, 30, 32, *36
Mountain View | *13
Pine Bluff | 24, 34
Rogers | 33
Springdale | 29
California
Anaheim | 12
Arcata | 22
Avalon | S
Bakersfield | 10, 25, 26, 33
Bishop | 20
Calipatria | 36
Ceres | *15
Chico | 20, 36
Clovis | 27
Concord | S
Corona | 25
Cotati | *5
El Centro | 9, 22
Eureka | 3, *11, 17, 28
Fort Bragg | 8
Fremont | S
Fresno | 7, 20, 30, *32, 34
Garden Grove | S
Hanford | 21
Huntington Beach | *S
Inglewood | S
Long Beach | 18
Los Angeles | 4, 7, 9, 11, 13, *28, 31, 34, 35, 36, *S
Merced | 11
Modesto | 18
Monterey | 32, S
Oakland | 31
Ontario | 29
Palm Springs | 26, 28
Palo Alto | S
Paradise | 30
Porterville | 23
Rancho Palos Verdes | 30
Redding | *9, 15
Riverside | S
Sacramento | *9, 10, 21, 22, 24, 35
Salinas | 8, 11
San Bernardino | *5, 24
San Diego | 8, 10, 17, 18, *19, 26
San Francisco | 7, 12, 20, 28, 29, *30, 32, S, S, *S
San Jose | 13, 19, 33, 36, *S
San Luis Obispo | 15, 34
San Mateo | *27
Sanger | 36
Santa Ana | 33
Santa Barbara | 21, 27
Santa Maria | 19
Stockton | 23, 25, 26
Twentynine Palms | 23
Vallejo | 34
Ventura | S
Visalia | *22, 28
Watsonville | *25
Colorado
Boulder | 32
Broomfield | *13
Castle Rock | 15
Colorado Springs | 22, 24, 26
Denver | 7, 9, 18, *20, 28, 31, *33, 34, 35, 36
Durango | 15, *20, 33
Fort Collins | 21
Glenwood Springs | 23
Grand Junction | 2, 7, 12, 15, *18
Greeley | 17
Longmont | 29
Montrose | 13
Pueblo | *8, 25, 27
Steamboat Springs | 10
Sterling | 23
Connecticut
Bridgeport | S
Hartford | *30, 34, 36, S
New Britain | 31
New Haven | 10, S, *S
New London | 28
Norwich | *9
Stamford | *21
Waterbury | 33
Delaware
Dover | 5
Seaford | *24
Wilmington | 2, *13, 34
District of Columbia
Washington | 7, 9, *31, *33, 34, 36, S, S
Florida
Boca Raton | *25
Boynton Beach | *S
Bradenton | 29
Cape Coral | 34
Clearwater | 21
Clermont | 23
Cocoa | *30, 32
Daytona Beach | 11, 15
Destin | 29
Fort Lauderdale | 30
Fort Myers | 15, *22, 31
Fort Pierce | *18, 20
Fort Walton Beach | 14, 21, 25
Gainesville | 8, 16, *36
High Springs | 29
Hollywood | 24
Jacksonville | *9, 13, 14, 18, 19, 20, *21
Key West | 3, 8
Lake Worth | 36
Lakeland | 18
Leesburg | 7, *S
Live Oak | 17
Marianna | 26
Melbourne | 14, 22
Miami | 9, 10, 21, 22, 23, *26, 27, 28, *29, 31, 32
Naples | 28, 32
New Smyrna Beach | *24
Ocala | 31
Orange Park | 10
Orlando | 26, 27, 28, 33, *34, 35
Palm Beach | 7
Panama City | 9, 13, 16, *28
Panama City Beach | 33
Pensacola | 17, *24, 34, 35
Sarasota | 24
St. Petersburg | 10, 19, S
Stuart | 34
Tallahassee | 22, 24, 27, *32
Tampa | 9, 12, *13, 17, 20, *S
Tequesta | 16
Tice | 33
Venice | 25
West Palm Beach | 12, 13, 35
Georgia
Albany | 10, 29
Athens | *7, 18
Atlanta | 10, 19, *21, 25, 27, 31, 32, *34, 36
Augusta | 27, 28, 36
Bainbridge | 19
Baxley | 35
Brunswick | 24
Chatsworth | *4
Cochran | *9
Columbus | *5, 11, 15, 24, 35
Cordele | 34
Dalton | 28
Dawson | *7
Macon | 13, 26, 30, 33
Monroe | 22
Pelham | *6
Perry | 23
Rome | 16
Savannah | *8, 16, 22, 23
Thomasville | 20
Toccoa | 24
Valdosta | 31
Waycross | *7
Wrens | *6
Hawaii
Hilo | 9, 11, 13, 22, 23
Honolulu | 8, *11, *18, 19, 20, 22, 23, *26, 27, 31, 33, 35
Kailua | 29
Kailua-Kona | 25
Kaneohe | 32
Wailuku | 7, *10, 12, 16, 21, 24
Waimanalo | 15
Idaho
Boise | 7, 15, 20, *21
Caldwell | 10
Coeur d'Alene | *18
Filer | *18
Idaho Falls | 8, 20, 36
Lewiston | 32
Moscow | *12
Nampa | 13, 24
Pocatello | *17, 23, 31
Sun Valley | 5
Twin Falls | 11, *22, 34
Illinois
Aurora | S
Bloomington | 28
Carbondale | *8
Champaign | 32, 34
Charleston | *30
Chicago | 12, 19, 22, 23, 24, *25, 33, 34, S, *S
Decatur | 20, 22
East St. Louis | 28
Freeport | 9
Galesburg | 8
Harrisburg | 34
Jacksonville | *18
Joliet | 35
Macomb | *36
Marion | 30
Moline | *23, 31
Mount Vernon | 13
Naperville | S
Olney | *23
Oswego | 10
Peoria | 24, 25, 26, *35
Quincy | 22, 32, *34
Rock Island | 4
Rockford | 13, 16, 36
Springfield | 11, 15, 16
Urbana | *9, 36
Indiana
Angola | 12
Bloomington | 27, 28, *33, S
Elkhart | 30
Evansville | *9, 12, 22, 26, 28
Fort Wayne | *18, 20, 24, 32, 34
Gary | *17, S
Hammond | 21
Indianapolis | 7, 9, 13, *21, 22, *23, 25
Kokomo | 15
Lafayette | 11
Marion | S
Muncie | 19
Richmond | S
Salem | 16
South Bend | 27, 29, *31, 36
Terre Haute | 10, 18, 35
Vincennes | *31
Iowa
Ames | 5, 23, *34
Burlington | 21
Cedar Rapids | 22, 27, 29, 32
Council Bluffs | *33
Davenport | 17, 30, *34
Des Moines | 8, *11, 13, 16, 19
Dubuque | 14
Fort Dodge | *25
Iowa City | *12, 25
Mason City | *18, 24
Newton | 36
Ottumwa | 15
Red Oak | *35
Sioux City | 9, 14, *28, 30, 32
Waterloo | 7, *35
Kansas
Colby | 17, *19
Derby | 31
Dodge City | *21
Ensign | 6
Garden City | 11, 13
Goodland | 10
Great Bend | 22
Hays | 7, *16
Hoisington | 14
Hutchinson | *8, 19, 35
Lakin | *8
Lawrence | 25
Pittsburg | 7, 13
Salina | 17
Topeka | *11, 12, 13, 16, 27
Wichita | 10, 12, 15, 26
Kentucky
Ashland | 13, *36
Beattyville | 7
Bowling Green | 13, *18, 24, *29
Covington | *22
Danville | 19
Elizabethtown | *23
Harlan | S
Hazard | 12, *33
Lexington | 21, 27, 28, *35
Louisville | 8, 11, 14, *30, 32, *34, 36
Madisonville | *31
Morehead | *30
Murray | *17
Newport | 15
Owensboro | 17
Owenton | *24
Paducah | 19, *23, 25
Pikeville | *23
Richmond | 25
Somerset | *17
Louisiana
Alexandria | 26, 31, *33, 35
Baton Rouge | 9, 13, 24, *25, 34
Columbia | 11
Hammond | 35
Lafayette | 10, 16, *23, 28
Lake Charles | 7, 18, *20
Minden | 32
Monroe | 8, *13
New Iberia | 17
New Orleans | 15, 19, 21, *23, 26, 27, *28, 29, 33
Shreveport | 16, *17, 23, 28, 34
Slidell | 17
West Monroe | 19, 22
Maine
Augusta | *10
Bangor | 2, 7, 13
Biddeford | *36
Calais | *10
Lewiston | 24
Orono | *9
Poland Spring | 8
Portland | 15, 31, 34
Presque Isle | 8, *10
Waterville | 17
Maryland
Annapolis | *21
Baltimore | 11, 12, *22, 25, 26, 27, S
Frederick | *28
Hagerstown | 23, *29
Oakland | *26
Salisbury | *16, 29, 32
Silver Spring | S
Massachusetts
Boston | *5, 20, 21, 22, *32, 33, 34, 35
Cambridge | S
Foxborough | S
Lowell | *S
Marlborough | 27
New Bedford | 24, S
Norwell | 10
Pittsfield | 7
Springfield | 11, *13, 26
Woburn | S
Worcester | 19
Michigan
Alpena | 11, *24
Ann Arbor | 24
Bad Axe | *15
Battle Creek | 17, 21
Bay City | 23, 30
Cadillac | 9, 32, *34
Calumet | 5
Cheboygan | 16
Detroit | 7, *20, 21, 25, 31, 32, 34
East Lansing | *33
Escanaba | 32
Flint | 12, 16
Grand Rapids | 7, *11, 13, 19
Ishpeming | 10
Kalamazoo | *5, 8, 22
Lansing | 14, 28, S
Manistee | *20
Marquette | *8, 19, 35
Mount Clemens | 27
Mount Pleasant | *26
Muskegon | 24
Onondaga | 10
Saginaw | 18, 36
Sault Ste. Marie | 8, 10
Traverse City | 29, 35
Vanderbilt | 21
Minnesota
Alexandria | 7, 24
Appleton | *10
Austin | *20, 36
Bemidji | *9, 26
Brainerd | *28
Chisholm | 11
Crookston | *16
Duluth | *8, 10, 18, 27, 33
Hibbing | 13, *31
Mankato | 12
Minneapolis | 9, 22, 29, 30, 31, 32
Redwood Falls | 27
Rochester | 10, 26
St. Cloud | 16
St. Paul | *23, *34, 35
Thief River Falls | 10
Walker | 12
Worthington | *15
Mississippi
Biloxi | *16, 32
Booneville | *9
Bude | *18
Columbus | 27
Greenville | 15
Greenwood | *25, 32
Gulfport | 25
Hattiesburg | 22
Holly Springs | 26
Jackson | 12, 14, *20, 21, 23, 30
Laurel | 7
Magee | 34
Meridian | 13, 24, *28, 31
Mississippi State | *8
Natchez | 15
Oxford | *36
Senatobia | *S
Tupelo | 11, 17
Vicksburg | 36
West Point | 16
Missouri
Cape Girardeau | 32, 36
Columbia | 17, 27
Hannibal | 22
Jefferson City | 20, 29
Joplin | 17, 23, *35
Kansas City | *18, 24, 29, 30, 31, 32, 34, 36
Kirksville | 33
Osage Beach | 22
Poplar Bluff | 15
Sedalia | 15
Springfield | 10, *16, 19, 28
St. Joseph | 7, 21
St. Louis | 14, *23, 24, 26, 31, 33, 35
Montana
Billings | 10, 11, *16, 18
Bozeman | *8, 13
Butte | 5, 19, 20, 24
Glendive | 5
Great Falls | 7, 8, 17, *21, 26
Hardin | 22
Havre | 9
Helena | 12, 29
Kalispell | 9, *15
Miles City | 3
Missoula | 7, *11, 20, 23
Nebraska
Alliance | *13
Bassett | *7
Grand Island | 11
Hastings | 5, *28
Hayes Center | 6
Kearney | 18
Lexington | *26
Lincoln | 8, 10, *12, 15
McCook | 12
Merriman | *12
Norfolk | *19
North Platte | 2, *9
Omaha | *17, 20, 22, 26, 29, 31
Scottsbluff | 29
Sidney | 7
York | 24
Nevada
Elko | 10
Ely | 27
Henderson | 9
Las Vegas | 2, 7, *11, 13, 16, 22, 29
Laughlin | 32
Paradise | 20
Reno | 8, 11, 12, *15, 20, 23, 26
Tonopah | 9
Winnemucca | 7
New Hampshire
Concord | 23
Derry | S
Durham | *11
Keene | *18
Littleton | *23
Manchester | 9
Merrimack | 29
New Jersey
Atlantic City | 4
Camden | *23
Jersey City | S
Linden | 35
Middletown Township | 3
Millville | S
Montclair | *S
Mount Laurel | S
New Brunswick | *8
Newark | 12, 26
Newton | 18
Paterson | S
Princeton | S
Secaucus | 25
Trenton | *S
Vineland | S
Wildwood | 36
New Mexico
Albuquerque | 7, 13, 16, *17, 22, 24, 26, *35, 36
Carlsbad | 19, 25
Clovis | 12
Farmington | 12
Hobbs | 29
Las Cruces | *23, 26
Portales | *32
Roswell | 8, 10, 21, 27
Santa Fe | *8, 10, 27, 29
Silver City | 10, 12
New York
Albany | 8, 12, 24
Amsterdam | 19
Batavia | 24
Binghamton | 7, 8, 27, *31
Buffalo | 16, *31, 32, 33, 34, 36, S
Carthage | 8
Corning | *25, 30
Elmira | 23, 35
Garden City | *32
Ithaca | 13
Jamestown | 5
New Rochelle | S
New York | 7, 11, *24, 27, 34, 36, S
Norwood | *23
Plattsburgh | 14, *36
Riverhead | 29
Rochester | 9, 10, 21, *22, 28
Saranac Lake | 34
Schenectady | 22, *25, 35
Smithtown | 23
Springville | 7
Syracuse | 14, 15, 17, 18, 19, *20, 36
Utica | 29, 30, 34
Watertown | *26, 31
North Carolina
Archer Lodge | S
Asheville | 13, *20, S
Belmont | 25
Burlington | 26
Chapel Hill | *20
Charlotte | *9, 18, 19, 23, 24
Concord | *21
Durham | 9, 14
Edenton | *29
Fayetteville | 22
Goldsboro | 8
Greensboro | 28, 35, S
Greenville | 12, 19, *25, 36
Hickory | 14
High Point | 31
Jacksonville | 16, *28
Kannapolis | 32
Lexington | S
Linville | *36
Lumberton | *30
Manteo | 13
New Bern | 10
Raleigh | 15, 17, 18
Roanoke Rapids | *27
Rocky Mount | 32
Wake Forest | S
Washington | 34
Wilmington | *21, 23, 24, 29
Winston-Salem | 16, 29, *33
North Dakota
Bismarck | 12, 17, *22, 26, 31
Devils Lake | 8, *25
Dickinson | 7, *9, 19
Ellendale | *20
Fargo | *13, 19, 21, 36
Grand Forks | *15, 27
Jamestown | 7
Minot | 10, 13, 14, *15, 24
Pembina | 12
Valley City | 24
Williston | 8, *11, 14
Ohio
Akron | 17, 22, *24
Alliance | *29
Athens | *32
Bowling Green | *22
Cambridge | *6
Canton | S, S
Chillicothe | 23
Cincinnati | 12, *17, 18, 20, 26
Cleveland | 8, 15, 19, *35, 36
Columbus | 14, *16, 21, 27, 28
Dayton | 31, 33, 34, *35, 36
Lima | 4, 8
London | S
Lorain | S
Mansfield | 12
Oxford | *29
Portsmouth | 15
Sandusky | 3
Shaker Heights | 10
Springfield | S
Steubenville | 9
Toledo | 5, 11, 13, 23, 26, *29
Youngstown | 31, 33, S
Zanesville | 30
Oklahoma
Ada | 17
Bartlesville | 36
Cheyenne | *8
Claremore | *32
Eufaula | *31
Lawton | 11
Muskogee | 20
Norman | 16
Oklahoma City | 7, *13, 15, 18, 19, 23, 24, 25, 27, 33
Okmulgee | 28
Shawnee | 29
Tulsa | 8, 10, *11, 12, 16, 22, 26, 34
Woodward | 35
Oregon
Bend | *11, 18, 21
Coos Bay | 11, 22
Corvallis | *7
Eugene | 9, 17, 28, *29, 31
Grants Pass | 30
Klamath Falls | 13, 29, *33
La Grande | *13, 16
Medford | 5, *8, 10, 12, 26
Pendleton | 11
Portland | *10, 12, 24, 25, 26, 32
Roseburg | 18, 19, 36
Salem | 22, 33
Pennsylvania
Allentown | S, *S
Altoona | 6, 24, 31
Bethlehem | 9
Clearfield | *15
Erie | 12, 21, 26, *27, 28
Greensburg | 28
Harrisburg | 10, 32, *36
Hazleton | 22
Jeannette | 11
Johnstown | 8, 35
Lancaster | 8, S
Philadelphia | 6, 17, 28, 30, 31, 33, *S
Pittsburgh | *4, 16, 20, 21, 23, 25, 27
Red Lion | S
Scranton | 12, 21, 33, 34, *S
Wilkes-Barre | 11
Williamsport | 29
Willow Grove | S
York | S
Rhode Island
Newport | 17
Providence | *2, 7, 12, 25
South Carolina
Allendale | *21
Anderson | 35
Beaufort | *32
Charleston | 17, 19, 20, *24, 25, 34
Columbia | 7, 10, 15, 22, 25, *33
Conway | *28
Florence | 13, *16, 26, 27
Greenville | 2, *8, 17, 30
Greenwood | *26
Hardeeville | 26
Myrtle Beach | 32, 36
Rock Hill | 34, S
Spartanburg | 11, *S
Sumter | *29, 31
South Dakota
Aberdeen | 9, *17
Brookings | *8
Eagle Butte | *13
Florence | 3
Huron | 12
Lead | 5, 10
Lowry | *11
Martin | *8
Mitchell | 26
Pierre | *10, 19
Rapid City | 2, 7, 16, 21, *26
Reliance | 13
Sioux Falls | 7, 11, 13, 21, *24, 36
Vermillion | *34
Tennessee
Chattanooga | 8, 9, 13, 14, *35
Cleveland | 23
Cookeville | *22
Crossville | 31
Franklin | 32
Greeneville | 28
Hendersonville | 33
Jackson | 21, 35
Jellico | 18
Johnson City | 9
Kingsport | 32
Knoxville | 7, 10, 15, 26, *29, 34
Lebanon | 25
Lexington | *27
Memphis | 5, 13, 23, 25, 28, *29, 31, 33
Murfreesboro | 16
Nashville | *7, 10, 20, 21, 27, 30, 36
Sneedville | *24
Tazewell | 36
Texas
Abilene | 15, 29, 30
Alvin | 36
Amarillo | *9, 10, 15, 19, 20
Arlington | 25
Austin | 7, 21, *22, 23, 33, 34
Baytown | 31
Beaumont | 12, 15, *29
Belton | 17
Big Spring | 33
Blanco | 18
Borger | 31
Bryan | 24
College Station | 16, 29
Conroe | *12
Corpus Christi | 8, 10, 19, *23, 26, 27
Dallas | 8, *14, 21, 27, 32, 35, 36
Decatur | 30
Del Rio | 28
Denton | *29
Eagle Pass | 18
El Paso | *13, 15, 16, 17, 18, 20, *21, 25
Farwell | 18
Fort Worth | 9, 18, 19, 24
Fredericksburg | 8
Galveston | 22, *23
Garland | 33
Greenville | 23
Harlingen | 16, 18, *21
Houston | *8, 11, 13, 19, 21, *24, 26, 34, 35
Irving | 34
Jacksonville | 22
Katy | 25
Kerrville | 32
Killeen | 13
Lake Dallas | 31
Laredo | 8, 19
Llano | 27
Longview | 20, S
Lubbock | 16, *25, 27, 31, 35, 36
Lufkin | 9
McAllen | 17
Midland | 18, 26
Nacogdoches | 15
Odessa | 7, 9, 15, 23, *28, 30
Port Arthur | 27
Rio Grande | 14
Rosenberg | 30
San Angelo | 11, 16, 19
San Antonio | *9, 12, 15, *16, 24, 28, 29, 30
Sherman | 12
Snyder | 17
Sweetwater | 20
Temple | 9
Texarkana | 26
Tyler | 7
Uvalde | 26
Victoria | 11, 20
Waco | 10, *20, 26, 28
Weslaco | 13
Wichita Falls | 15, 22, 28
Wolfforth | 23
Utah
Cedar City | 14
Logan | 12
Ogden | 24, 35, *36
Price | 11
Provo | *17, 29, 32
Richfield | *19
Salt Lake City | 19, 20, 23, *27, 28, 30, 34
St. George | *18, 21
Vernal | 16
Vermont
Burlington | 7, 16, 20, *32
Montpelier | S
Rutland | *10
St. Johnsbury | *28
Windsor | *S
Virginia
Arlington | 15
Ashland | 8
Bristol | 35
Charlottesville | 2, *26, 32
Culpeper | *S
Danville | S
Grundy | 14
Hampton | 11
Hampton-Norfolk | *31
Harrisonburg | 20
Lynchburg | 7, 21
Manassas | 35
New Market | *S
Norfolk | 16, 32, 33
Petersburg | 28
Portsmouth | 19, 20
Richmond | 10, *22, 23, 24, *29
Roanoke | *3, 27, 30, 34, 36
Spotsylvania | *S
Staunton | *12
Virginia Beach | 7, 21
Washington
Bellevue | 24, 33
Bellingham | 14, 19
Centralia | *19
Everett | 31
Kennewick | 27
Pasco | 18
Pullman | *10, 24
Richland | *22, 26
Seattle | *9, 16, 23, 25, 30, 36
Spokane | *7, 13, 15, 20, 28, 34, 36
Tacoma | 11, 13, 21, *27, *34
Vancouver | 30
Walla Walla | 9
Yakima | 14, 16, *21, 33
West Virginia
Bluefield | 17, 25
Charleston | 18, 24, 29
Clarksburg | 12, 13
Grandview | *8
Huntington | *9, 10, 22
Lewisburg | 11
Martinsburg | 13
Morgantown | *34
Oak Hill | 31
Parkersburg | 35
Weston | 5
Wheeling | 7
Wisconsin
Antigo | 19
Appleton | 36
Chippewa Falls | 21
Crandon | 13
Eagle River | 26, 28
Eau Claire | 17, 25
Fond du Lac | 5
Green Bay | 14, 18, 22, 23, *25
Janesville | 21
Kenosha | 30
La Crosse | 8, *15, 28, 33
Madison | 11, 18, 19, *20, 26
Mayville | 34
Menomonie | *27
Milwaukee | *8, 27, 28, 29, 31, 32, S, *S
Park Falls | *36
Racine | S
Rhinelander | 16
Superior | 19
Suring | 15
Wausau | 7, 9, *24
Wittenberg | 31
Wyoming
Casper | *8, 12, 14, 17, 20
Cheyenne | 11, 27, 30
Jackson | 11
Lander | 7, *8
Laramie | *8
Rawlins | 9
Riverton | 10
Rock Springs | 13
Sheridan | 7, 13
Guam
Hagåtña | 8, 12
Tamuning | 14
Puerto Rico
Aguada | 25
Aguadilla | 12, 17
Arecibo | 35
Bayamón | S
Caguas | 11, *24
Carolina | 30
Fajardo | 13, *15, 16
Guayama | 34
Humacao | 23
Mayagüez | 20, 29, 31, 32
Naranjito | 18
Ponce | 7, 9, 14, *19, 36, S
San Juan | 21, *26, 27, 28, S
San Sebastián | 33
Toa Baja | *S
Yauco | S
US Virgin Islands
Charlotte Amalie | 17, 21, *36
Christiansted | 20, 23

10. Section 73.623 is amended by revising paragraph (a) and by removing and reserving paragraphs (c) and (g).

The revision reads as follows:

§ 73.623 DTV applications and changes to DTV allotments.

(a) General. This section contains the technical criteria for evaluating applications requesting DTV facilities that do not conform to the provisions of § 73.622 and petitions for rulemaking to amend the DTV Table of Allotments (§ 73.622(b)). Petitions to amend the DTV Table (other than those also expressly requesting amendment of this section) and applications for new DTV broadcast stations or for changes in authorized DTV stations filed pursuant to this section will not be accepted for filing if they fail to comply with the requirements of this section. Petitions for rule making and applications seeking facilities that will operate after the end of the DTV transition must also comply with § 73.616.

* * * * *

11. Section 73.625 is amended by revising paragraph (a)(1) to read as follows:

§ 73.625 DTV coverage of principal community and antenna system.

(a) * * *

(1) The DTV transmitter location shall be chosen so that, on the basis of the effective radiated power and antenna height above average terrain employed, the following minimum F(50,90) field strength in dB above one uV/m will be provided over the entire principal community to be served:

Channels 2-6 | 35 dBu.
Channels 7-13 | 43 dBu.
Channels 14-36 | 48 dBu.

* * * * *

12. Section 73.681 is amended by revising the definition of “Television broadcast band” to read as follows:

§ 73.681 Definitions.

* * * * *

Television broadcast band. The frequencies in the band extending from 54 to 608 megahertz which are assignable to television broadcast stations. These frequencies are 54 to 72 megahertz (channels 2 through 4), 76 to 88 megahertz (channels 5 and 6), 174 to 216 megahertz (channels 7 through 13), and 470 to 608 megahertz (channels 14 through 36).

* * * * *

13. Section 73.687 is amended by revising paragraphs (a)(1) and (4), (e)(3), (e)(4) introductory text, and (e)(4)(i) to read as follows:

§ 73.687 Transmission system requirements.

(a) * * *

(1) The field strength or voltage of the lower sideband, as radiated or dissipated and measured as described in paragraph (a)(2) of this section, shall not be greater than −20 dB for a modulating frequency of 1.25 MHz or greater and in addition, for color, shall not be greater than −42 dB for a modulating frequency of 3.579545 MHz (the color subcarrier frequency). For both monochrome and color, the field strength or voltage of the upper sideband as radiated or dissipated and measured as described in paragraph (a)(2) of this section shall not be greater than −20 dB for a modulating frequency of 4.75 MHz or greater. For stations operating on Channels 15-36 and employing a transmitter delivering maximum peak visual power output of 1 kW or less, the field strength or voltage of the upper and lower sidebands, as radiated or dissipated and measured as described in paragraph (a)(2) of this section, shall depart from the visual amplitude characteristic (Figure 5a of § 73.699) by no more than the following amounts:

* * * * *

(4) The radio frequency signal, as radiated, shall have an envelope as would be produced by a modulating signal in conformity with § 73.682 and Figure 6 or 7 of § 73.699, as modified by vestigial sideband operation specified in Figure 5 of § 73.699. For stations operating on Channels 15-36 the radio frequency signal as radiated, shall have an envelope as would be produced by a modulating signal in conformity with § 73.682 and Figure 6 or 7 of § 73.699.

* * * * *

(e) * * *

(3) TV broadcast stations operating on Channel 14 must take special precautions to avoid interference to adjacent spectrum land mobile radio service facilities. Where a TV station is authorized and operating prior to the authorization and operation of the land mobile facility, a Channel 14 station must attenuate its emissions within the frequency range 467 to 470 MHz if necessary to permit reasonable use of the adjacent frequencies by land mobile licensees.

(4) The requirements listed below apply to permittees authorized to construct a new station on TV Channel 14, and to licensees authorized to change the channel of an existing station to Channel 14, to increase effective radiated power (ERP) (including any change in directional antenna characteristics that results in an increase in ERP in any direction), or to change the transmitting location of an existing station.

(i) For the purposes of this paragraph (e), a protected land mobile facility is a receiver that is intended to receive transmissions from licensed land mobile stations within the frequency band below 470 MHz, and is associated with one or more land mobile stations for which a license has been issued by the Commission, or a proper application has been received by the Commission prior to the date of the filing of the TV construction permit application. However, a land mobile facility will not be protected if it is proposed in an application that is denied or dismissed and that action is no longer subject to Commission review. Further, if the land mobile station is not operating when the TV facility commences operation and it does not commence operation within the time permitted by its authorization in accordance with part 90 of this chapter, it will not be protected.

* * * * *

14. Section 73.699 is amended by revising Figures 10b and 10c to read as follows:

§ 73.699 TV engineering charts.

* * * * *

BILLING CODE 6712-01-P

BILLING CODE 6712-01-C

* * * * *

15. Section 73.1690 is amended by revising paragraphs (b)(8) and (c)(3) and (4) to read as follows:

§ 73.1690 Modification of transmission systems.

* * * * *

(b) * * *

(8) A commercial TV or noncommercial educational TV station operating on Channels 14 or a Class A TV station on Channel 14 may increase its horizontally or vertically polarized ERP only after the grant of a construction permit. A television or Class A television station on Channels 15 through 21 within 341 km of a cochannel land mobile operation, or 225 km of a first-adjacent channel land mobile operation, must also obtain a construction permit before increasing the horizontally or vertically polarized ERP (see § 74.709(a) and (b) of this chapter for tables of urban areas and corresponding reference coordinates of potentially affected land mobile operations).

* * * * *

(c) * * *

(3) A directional TV on Channels 2 through 13 or 22 through 36 or a directional Class A TV on Channels 2 through 13 or 22 through 36, or a directional TV or Class A TV station on Channels 15 through 21 which is in excess of 341 km (212 miles) from a cochannel land mobile operation or in excess of 225 km (140 miles) from a first-adjacent channel land mobile operation (see § 74.709(a) and (b) of this chapter for tables of urban areas and reference coordinates of potentially affected land mobile operations), may replace a directional TV or Class A TV antenna by a license modification application, if the proposed horizontal theoretical directional antenna pattern does not exceed the licensed horizontal directional antenna pattern at any azimuth and where no change in effective radiated power will result. The modification of license application on Form 302-TV or Form 302-CA must contain all of the data set forth in § 73.685(f) or § 73.6025(a), as applicable.

(4) Commercial and noncommercial educational FM stations operating on Channels 221 through 300 (except Class D), Class A TV stations operating on Channels 2 through 13 and 22 through 36, and TV and Class A TV stations operating on Channels 15 through 21 that are in excess of 341 km (212 miles) from a cochannel land mobile operation or in excess of 225 km (140 miles) from a first-adjacent channel land mobile operation (see § 74.709(a) and (b) of this chapter for tables of urban areas and reference coordinates of potentially affected land mobile operations), which operate omnidirectionally, may increase the vertically polarized effective radiated power up to the authorized horizontally polarized effective radiated power in a license modification application. Noncommercial educational FM licensees and permittees on Channels 201 through 220, that do not use separate antennas mounted at different heights for the horizontally polarized ERP and the vertically polarized ERP, and are located in excess of the separations from a Channel 6 television station listed in Table A of § 73.525(a)(1), may also increase the vertical ERP, up to (but not exceeding) the authorized horizontally polarized ERP via a license modification application. Program test operations may commence at full power pursuant to § 73.1620(a)(1).

* * * * *

16. Section 73.3572 is amended by revising paragraphs (a)(1) and (a)(4)(ii) to read as follows:

§ 73.3572 Processing of TV broadcast, Class A TV broadcast, low power TV, TV translators, and TV booster applications.

(a) * * *

(1) In the first group are applications for new stations or major changes in the facilities of authorized stations. A major change for TV broadcast stations authorized under this part is any change in frequency or community of license which is in accord with a present allotment contained in the Table of Allotments (§ 73.622(j)). Other requests for change in frequency or community of license for TV broadcast stations must first be submitted in the form of a petition for rulemaking to amend the Table of Allotments.

* * * * *

(4) * * *

(ii) Provided further, that a low power TV or TV translator or TV booster station which is causing or receiving interference or is predicted to cause or receive interference to or from an authorized DTV station pursuant to § 74.706 of this chapter, or which is located within the distances specified in paragraph (a)(4)(iv) of this section to the coordinates of co-channel DTV authorizations (or allotment table coordinates if there are no authorized facilities at different coordinates), may at any time file a displacement relief application for a change in output channel, together with any technical modifications which are necessary to avoid interference or continue serving the station's protected service area. Such an application will not be considered as an application for a major change in those facilities. Where such an application is mutually exclusive with applications for new low power TV, TV translator, or TV booster stations, or with other nondisplacement relief applications for facilities modifications of Class A TV, low power TV, TV translator, or TV booster stations, priority will be afforded to the displacement application(s) to the exclusion of other applications.

* * * * *

§ 73.3700 [Amended]

17. Section 73.3700 is amended by removing and reserving paragraph (f).

18. Section 73.6006 is revised to read as follows:

§ 73.6006 Channel assignments.

Class A TV stations will not be authorized on channels unavailable for TV broadcast station use pursuant to § 73.603.

19. Section 73.6010 is amended by removing and reserving paragraph (a) and revising paragraph (c).

The revision reads as follows:

§ 73.6010 Class A TV station protected contour.

* * * * *

(c) A digital Class A TV station will be protected from interference within the following predicted signal contours:

(1) 43 dBu for stations on Channels 2 through 6;

(2) 48 dBu for stations on Channels 7 through 13; and

(3) 51 dBu for stations on Channels 14 through 36.

* * * * *

20. Section 73.7000 is amended by revising the definitions of “Nonreserved (Unreserved) channels” and “Reserved channels” to read as follows:

§ 73.7000 Definition of terms (as used in subpart K only).

* * * * *

Nonreserved (Unreserved) channels. Channels which are not reserved exclusively for noncommercial educational use, and for which commercial entities could thus be eligible to operate full power stations. Such channels appear without an asterisk designation in the FM Table of Allotments (§ 73.202) and TV Table of Allotments (§ 73.622(j)). In the event of a request to allocate a nonreserved channel as reserved pursuant to § 73.202(a) or § 73.622)(j), the channel remains classified as nonreserved until release of a Commission decision granting such request.

* * * * *

Reserved channels. Channels reserved exclusively for noncommercial educational use, whether by the portion of the spectrum in which they are located (i.e., FM channels 200 to 220) or by a case-by-case Commission allotment decision (channels that appear with an asterisk designation in the FM Table of Allotments (§ 73.202) or TV Table of Allotments (§ 73.622(j)).

* * * * *

PART 74—EXPERIMENTAL RADIO, AUXILIARY, SPECIAL BROADCAST AND OTHER PROGRAM DISTRIBUTIONAL SERVICES

21. The authority citation for part 74 continues to read as follows:

Authority: 47 U.S.C. 154, 302a, 303, 307, 309, 310, 336 and 554.

22. Section 74.702 is amended by revising paragraph (a)(2), removing paragraph (a)(3), and revising paragraph (b).

The revisions read as follows:

§ 74.702 Channel assignments.

(a) * * *

(2) Any one of the UHF Channels from 14 to 36, inclusive, may be assigned to a UHF low power TV or TV translator station. In accordance with § 73.603(c) of this chapter, Channel 37 will not be assigned to such stations.

(b) Changes in the Table of Allotments (§ 73.622(j) of this chapter), authorizations to construct new DTV stations or to authorizations to change facilities of existing such stations, may be made without regard to existing or proposed low power TV or TV translator stations. Where such a change results in a low power TV or TV translator station causing actual interference to reception of the DTV station, the licensee or permittee of the low power TV or TV translator station shall eliminate the interference or file an application for a change in channel assignment pursuant to § 73.3572 of this chapter.

* * * * *

§ 74.703 [Amended]

23. Section 74.703 is amended by removing and reserving paragraphs (f) and (g).

24. Section 74.707 is amended by revising paragraph (a)(1)(iii) to read as follows:

§ 74.707 Low power TV and TV translator station protection.

(a) * * *

(1) * * *

(iii) 74 dBu for stations on Channels 14 through 69.

(A) Existing licensees and permittees that did not furnish sufficient data required to calculate the above contours by April 15, 1983 are assigned protected contours having the following radii:

(1) Up to 0.001 kW VHF/UHF—1 mile (1.6 km) from transmitter site

(2) Up to 0.01 kW VHF; up to 0.1 k/W UHF—2 miles (3.2 km) from transmitter site

(3) Up to 0.1 kW VHF; up to 1 kW UHF—4 miles (6.4 km) from transmitter site

(B) New applicants must submit the required information; they cannot rely on paragraphs (a)(1)(iii)(A)(1) through (3) of this section.

* * * * *

25. Section 74.735 is amended by removing and reserving paragraph (a) and by revising paragraph (b) and paragraph (c) introductory text.

The revisions read as follows:

§ 74.735 Power limitations.

* * * * *

(b) The maximum ERP of a digital low power TV, TV translator, or TV booster station (average power) shall not exceed:

(1) 3 kW for VHF channels 2-13; and

(2) 15 kW for UHF channels 14-51.

(c) The limits in paragraph (b) of this section apply separately to the effective radiated powers that may be obtained by the use of horizontally or vertically polarized transmitting antennas, providing the applicable provisions of §§ 74.705, 74.706, 74.707 and 74.709 are met. For either omnidirectional or directional antennas, where the ERP values of the vertically and horizontally polarized components are not of equal strength, the ERP limits shall apply to the polarization with the larger ERP. Applications proposing the use of directional antenna systems must be accompanied by the following:

* * * * *

26. Section 74.786 is amended by revising paragraph (c) and by removing paragraphs (d) through (g).

The revision reads as follows:

§ 74.786 Digital channel assignments.

* * * * *

(c) UHF channels 14 to 36 may be assigned to a UHF digital low power television or television translator station. In accordance with § 73.603(c) of this chapter, Channel 37 will not be assigned to such stations.

§ 74.787 [Amended]

27. Section 74.787 is amended by removing paragraph (c).

28. Section 74.792 is amended by revising paragraph (a)(3) to read as follows:

§ 74.792 Digital low power TV and TV translator station protected contour.

(a) * * *

(3) 51 dBu for stations on Channels 14 through 51.

* * * * *

29. Section 74.795 is amended by revising paragraph (c)(1) to read as follows:

§ 74.795 Digital low power TV and TV translator transmission system facilities.

* * * * *

(c) * * *

(1) The maximum rated power output (digital average power over a 6 MHz channel) shall not exceed 30 watts for transmitters operating on channels 14-51 and 3 watts for transmitters operating on channels 2-13; and

* * * * *

[FR Doc. 2021-24937 Filed 11-19-21; 8:45 am]

BILLING CODE 6712-01-P